DEPARTMENT OF HEALTH AND HUMAN SERVICES

Office of the Secretary

Federal Financial Participation in State Assistance Expenditures; Federal Matching Shares for Temporary Assistance to Needy Families, Medicaid, and Aid to Aged, Blind, or Disabled Persons for October 1, 2000 Through September 30, 2001 and for October 1, 2001 Through September 30, 2002. Legislated Change for Alaska

ACTION: Notice of legislated change.

SUMMARY: This Notice changes the Federal Medical Assistance Percentage (FMAP) and Enhanced FMAP values for Alaska shown in the Tables of Federal Medical Assistance Percentages calculated for determining the amount of Federal matching for State medical expenditures for Fiscal Years 2001 and 2002. The correction is necessary because the Medicare, Medicaid, and SCHIP Benefits Improvement and Protection Act of 2000 changed the formula for computing Alaska's percentages for purposes of Title XIX and XXI.

EFFECTIVE DATES: The corrected percentages will be effective for each of the 4 quarter-year periods in the period beginning October 1, 2000 and ending September 30, 2001 and for each of the 4 quarter-year periods in the period beginning October 1, 2001 and ending September 30, 2002.

FOR FURTHER INFORMATION CONTACT: Ms. Jennifer Tolbert, Office of Health Policy, Office of the Assistant Secretary for Planning and Evaluation, Room 442E Hubert H. Humphrey Building, 200 Independence Avenue SW., Washington, DC 20201, Telephone (202) 690-6870.

SUPPLEMENTARY INFORMATION: Section 706 of the Medicare, Medicaid, and SCHIP Benefits Improvement and Protection Act of 2000 (P.L. 106-554), passed in December 2000, specified a new FMAP computation formula for Alaska for Fiscal Years 2001 through 2005. On February 23, 2000, at 65 FR 8979, the Department published the FY 2001 percentages. On November 17, 2000, at 65 FR 69560, the Department published the FY 2002 percentages. In these Notices, the FMAP for Alaska for FY 2001 is listed as 56.04% and for FY 2002 as 53.01%. These continue to be the correct percentages for Title IV-A and certain other programs. For purposes of Medicaid, the FMAP for Alaska will be 60.13% for FY 2001 and 57.38% for FY 2002. For purposes of the State Children's Health Insurance Program, the Enhanced FMAP will be 72.09% for FY 2001 and 70.17% for FY 2002.

Dated: March 23, 2001.
Brian P. Burns,
Deputy Assistant Secretary for Information Resource Management.

[FR Doc. 01-8007 Filed 3-30-01; 8:45 am]

BILLING CODE 4151-04-P